FEDERAL COMMUNICATIONS COMMISSION

47 CFR Part 9

[PS Docket No. 18-261 and 17-239, GN Docket No. 11-117; FCC 19-76; FRS 17201]

Implementing Kari's Law and RAY BAUM'S Act; Inquiry Concerning 911 Access, Routing, and Location in Enterprise Communications Systems; Amending the Definition of Interconnected VoIP Service

AGENCY: Federal Communications Commission.

ACTION: Final rule; announcement of compliance date.

SUMMARY: In this document, the Commission announces that the Office of Management and Budget (OMB) has approved information collections associated with certain rules adopted in Implementing Kari's Law and RAY BAUM'S Act; Inquiry Concerning 911 Access, Routing, and Location in Enterprise Communications Systems; Amending the Definition of Interconnected VoIP Service. The Commission also announces that compliance with the rules is now required. The Commission also removes and amends paragraphs advising that compliance was not required until OMB approval was obtained. This document is consistent with the 2019 Report and Order and rules, which state the Commission will publish a document in the Federal Register announcing a compliance date for the rule sections and revise the rules accordingly.

DATES: Effective date: This rule is effective December 3, 2020.

Compliance dates: Compliance with 47 CFR 9.8(a) and 47 CFR 9.16(b)(3)(i) published at 84 FR 66716 on December 5, 2019, is required as of January 6, 2021. Compliance with 47 CFR 9.10(q)(10)(v), 47 CFR 9.16(b)(3)(ii) and (iii), published at 84 FR 66716 on December 5, 2019, is required as of January 6, 2022. Compliance with 47 CFR 9.11(b)(2)(ii) and (iv), (b)(4), and (b)(5)(ii) and (iii), published at 84 FR 66716 on December 5, 2019, is required as of January 6, 2021 for fixed services and January 6, 2022 for non-fixed services.

FOR FURTHER INFORMATION CONTACT: John A. Evanoff, Deputy Chief, Policy and Licensing Division, Public Safety and Homeland Security Bureau, at (202) 418-0848, or email: john.evanoff@fcc.gov.

SUPPLEMENTARY INFORMATION: This document announces that OMB approved the three information collection requirements in §§ 9.8(a); 9.10(q)(10)(v); 9.11(b)(2)(ii); 9.11(b)(2)(iv); 9.11(b)(4); 9.11(b)(5)(ii); (iii); and 9.16(b)(3)(i), (ii), and (iii).

The Commission publishes this document as an announcement of the compliance date of the rules. If you have any comments on the burden estimates listed below, or how the Commission can improve the collections and reduce any burdens caused thereby, please contact Nicole Ongele, Federal Communications Commission, 45 L Street, NE, Washington, DC 20554, regarding OMB Control Numbers 3060-1204, 3060-1085, or 3060-1280). Please include the relevant OMB Control Number in your correspondence. The Commission will also accept your comments via the internet if you send them to PRA@fcc.gov.

To request materials in accessible formats for people with disabilities (Braille, large print, electronic files, audio format), send an email to fcc504@fcc.gov or call the Consumer and Governmental Affairs Bureau at (202) 418-0530 (voice).

Synopsis

As required by the Paperwork Reduction Act of 1995 (44 U.S.C. 3507), the FCC is notifying the public that it received OMB approval on (1) September 17, 2020, for the text-to-911 information collection requirements contained in the Commission's rules at 47 CFR 9.10(q)(10)(v); (2) November 4, 2020, for the interconnected VoIP information collection requirements contained in the Commission's rules at 47 CFR 9.11(b)(2)(ii) and (iv), (b)(4), and (b)(5)(ii) and (iii); and (3) on November 10, 2020, for the fixed telephony and multi-line telephone system collection requirements contained in the Commission's rules at 47 CFR 9.8(a); and 9.16(b)(3)(i), (ii), and (iii).

Under 5 CFR part 1320, an agency may not conduct or sponsor a collection of information unless it displays a current, valid OMB Control Number.

No person shall be subject to any penalty for failing to comply with a collection of information subject to the Paperwork Reduction Act that does not display a current, valid OMB Control Number.

The foregoing notice is required by the Paperwork Reduction Act of 1995, Pub. L. 104-13, October 1, 1995, and 44 U.S.C. 3507.

The total annual reporting burdens and costs for the respondents are as follows:

OMB Control Number: 3060-1204.

OMB Approval Date: September 17, 2020.

OMB Expiration Date: September 30, 2023.

Title: Deployment of Text-to-911.

Form Number: N/A.

Type of Review: Revision of a currently approved collection.

Respondents: Business or other for-profit entities; State, Local or Tribal Government.

Number of Respondents and Responses: 3,882 respondents; 52,963 responses.

Estimated Time per Response: 1-8 hours.

Frequency of Response: One-time; annual reporting requirements, and third-party disclosure requirements.

Obligation to Respond: Required to obtain or retain benefits. Statutory authority for these collections is contained in 47 U.S.C. 151, 152, 154(i), 154(j), 154(o), 251(e), 303(b), 303(g), 303(r), 316, and 403.

Total Annual Burden: 76,766 hours.

Total Annual Cost: No Cost.

Nature and Extent of Confidentiality: There is no need for confidentiality with this collection of information.

Privacy Act Impact Assessment: No impact(s).

Needs and Uses: This notice pertains to multiple information collections relating to the Commission's text-to-911 regulations. As described below, OMB previously approved the information collections associated with deployment of text-to-911. This notice announces that OMB has approved modifications of the text-to-911 information collections pursuant to the Kari's Law and RAY BAUM'S Act Report and Order. In addition, OMB has approved modification of the PSAP Text-to-911 Registration Form so that PSAPs can use the form to request RTT service pursuant to the RTT Report and Order.

Deployment of Text-to-911. In 2014, the Commission adopted Facilitating the Deployment of Text-to-911 and Other Next-Generation 911 Applications, Framework for Next Generation 911 Deployment, Second Report and Order and Third Further Notice of Proposed Rulemaking, FCC 14-118, released on August 13, 2014, in PS Docket Nos. 11-153 and 10-255 (Text-to-911 Report and Order). The Text-to-911 Report and Order was published at 79 FR 55367 (September 16, 2014). In that Order, the Commission adopted final rules—containing information collection requirements—to enable the Commission to implement text-to-911 service. The text-to-911 rules provide enhanced access to emergency services for people with disabilities and fulfill a crucial role as an alternative means of emergency communication for the general public in situations where sending a text message to 911 as opposed to placing a voice call could be vital to the caller's safety. The Text-to-911 Report and Order adopted rules to commence the implementation of text-to-911 service with an initial deadline of December 31, 2014 for all covered text providers to be capable of supporting text-to-911 service. The Text-to-911 Report and Order also provided that covered text providers would then have a six-month implementation period. They must begin routing all 911 text messages to a PSAP by June 30, 2015 or within six months of a valid PSAP request for text-to-911 service, whichever is later.

To implement these requirements, the Commission seeks to collect information primarily for a database in which PSAPs voluntarily register that they are technically ready to receive text messages to 911. As PSAPs become text-ready, they may either register in the PSAP database or provide other written notification reasonably acceptable to a covered text messaging provider. Either measure taken by the PSAP constitutes sufficient notification pursuant to the rules in the Text-to-911 Report and Order. PSAPs and covered text providers may also agree to an alternative implementation timeframe (other than six months). Covered text providers must notify the FCC of the dates and terms of any such alternate timeframe within 30 days of the parties' agreement. Additionally, the rules adopted by the Text-to-911 Report and Order include other information collections for third party notifications necessary for the implementation of text-to-911, including notifications to consumers, covered text providers, and the Commission. These notifications are essential to ensure that all affected parties are aware of the limitations, capabilities, and status of text-to-911 services. These information collections enable the Commission to meet the objectives for implementation of text-to-911 service and for compliance by covered text providers with the six-month implementation period in furtherance of the Commission's core mission to ensure the public's safety.

Real-Time Text. In the RTT Report and Order, the Commission amended its rules to facilitate a transition from text telephone (TTY) technology to RTT as a reliable and interoperable universal text solution over wireless internet Protocol (IP) enabled networks for people who are deaf, hard of hearing, deaf-blind, or have a speech disability. Section 9.10(c) of the rules requires Commercial Mobile Radio Service (CMRS) providers to be “capable of transmitting 911 calls from individuals with speech or hearing disabilities through means other than mobile radio handsets, e.g., through the use of [TTY devices].” Section 9.10(c) also states that “CMRS providers that provide voice communications over IP facilities are not required to support 911 access via TTYs if they provide 911 access via [RTT] communications, in accordance with 47 CFR part 67, except that RTT support is not required to the extent that it is not achievable for a particular manufacturer to support RTT on the provider's network.” The RTT Report and Order provides that once a PSAP is so capable, the requested service provider must begin delivering RTT communications in an RTT format within six months after a valid request is made, to the extent the provider has selected RTT as its accessible text communication method.

Dispatchable Location. Section 506 of RAY BAUM'S Act requires the Commission to “consider adopting rules to ensure that the dispatchable location is conveyed with a 9-1-1 call, regardless of the technological platform used.” Section 506, Pub. L. 115-127, 132 Stat. 326. In the Kari's Law and RAY BAUM'S Act Report and Order, the Commission implemented Section 506 of RAY BAUM'S Act by adopting dispatchable location rules for mobile text and other 911-capable services. For mobile text services, the Commission adopted 47 CFR 9.10(q)(10)(v), which provides that no later than January 6, 2022, covered text providers must provide the following location information with all 911 text messages routed to a PSAP:

Automated dispatchable location, if technically feasible; otherwise either end-user manual provision of location information, or enhanced location information, which may be coordinate-based, consisting of the best available location that can be obtained from any available technology or combination of technologies at reasonable cost.

OMB Control Number: 3060-1085.

OMB Approval Date: November 4, 2020.

OMB Expiration Date: November 30, 2023.

Title: Section 9.11, Interconnected Voice Over internet Protocol (VoIP) E911 Compliance; Section 9.12, Implementation of the NET 911 Improvement Act of 2008: Location Information from Owners and Controllers of 911 and E911 Capabilities.

Form Number: N/A.

Type of Review: Revision of a currently approved collection.

Respondents: Individuals or Households; Business or other for-profit entities; Not-for-profit institutions; State, Local or Tribal government.

Number of Respondents and Responses: 72 respondents; 16,200,496 responses.

Estimated Time per Response: 0.09 hours (five minutes).

Frequency of Response: One-time, on occasion, third party disclosure requirement, and recordkeeping requirement.

Obligation to Respond: Statutory authority for this information collection is contained in 47 U.S.C. 151, 151-154, 152(a), 155(c), 157, 160, 201, 202, 208, 210, 214, 218, 219, 222, 225, 251(e), 255, 301, 302, 303, 307, 308, 309, 310, 316, 319, 332, 403, 405, 605, 610, 615, 615 note, 615a, 615b, 615c, 615a-1, 616, 620, 621, 623, 623 note, 721, and 1471.

Total Annual Burden: 1,481,249 hours.

Total Annual Cost: $238,890,000.

Nature and Extent of Confidentiality: There is no need for confidentiality with this collection of information.

Privacy Impact Assessment: No impact(s).

Needs and Uses: This notice pertains to multiple information collections relating to the Commission's 911 regulations for interconnected VoIP. First, the FCC requested OMB approval to modify the current information collection in OMB Control No. 3060-1085 to implement congressional mandates arising from Section 506 of RAY BAUM'S Act, which requires the Commission to “consider adopting rules to ensure that the dispatchable location is conveyed with a 9-1-1 call, regardless of the technological platform used and including with calls from multi-line telephone system.”

Second, the Commission obtained OMB approval to merge the existing information collection in OMB Control No. 3060-1131, Implementation of the NET 911 Improvement Act of 2008: Location Information from Owners and Controllers of 911 and E911 Capabilities. The Commission previously stated that it planned to merge the information collection requirements contained in that information collection into OMB Control Number 3060-1085, Section 9.5, Interconnected Voice Over internet Protocol (VoIP) E911 Compliance, into a single collection. Therefore, upon OMB approval, the Commission will discontinue the information collection under OMB Control No. 3060-1131.

Interconnected Voice Over internet Protocol (VoIP) E911 Compliance. The Commission is obligated by statute to promote “safety of life and property” and to “encourage and facilitate the prompt deployment throughout the United States of a seamless, ubiquitous, and reliable end-to-end infrastructure” for public safety. Congress has established 911 as the national emergency number to enable all citizens to reach emergency services directly and efficiently, irrespective of whether a citizen uses wireline or wireless technology when calling for help by dialing 911. Efforts by federal, state, and local governments, along with the significant efforts of wireline and wireless service providers, have resulted in the nearly ubiquitous deployment of this life-saving service.

In 2005, the Commission adopted IP-Enabled Services, E911 Requirements for IP-Enabled Service Providers, First Report and Order and Notice of Proposed Rulemaking, FCC 05-116, released on June 3, 2015, in WC Docket Nos. 04-36 and 05-196 (2005 Report and Order), which set forth rules requiring providers of VoIP services that interconnect with the nation's existing public switched telephone network (interconnected VoIP services) to supply E911 capabilities to their customers.

To ensure E911 functionality for customers of VoIP service providers, the Commission requires the following information collections:

A. Location Registration. Requires providers to interconnected VoIP services to obtain location information from their customers for use in the routing of 911 calls and the provision of location information to emergency answering points.

B. Provision of Automatic Location Information (ALI). Interconnected VoIP service providers will place the location information for their customers into, or make that information available through, specialized databases maintained by local exchange carriers (and, in at least one case, a state government) across the country.

C. Customer Notification. Requires that all providers of interconnected VoIP are aware of their interconnected VoIP service's actual E911 capabilities and that they specifically advise every subscriber, both new and existing, prominently and in plain language of the circumstances under which E911 service may not be available through the interconnected VoIP service or may be in some way limited by comparison to traditional E911 service.

D. Record of Customer Notification. Requires VoIP providers to obtain and keep a record of affirmative acknowledgement by every subscriber, both new and existing, of having received and understood this advisory.

E. User Notification. In addition, in order to ensure to the extent possible that the advisory is available to all potential users of an interconnected VoIP service, interconnected VoIP service providers must distribute to all subscribers, both new and existing, warning stickers or other appropriate labels warning subscribers if E911 service may be limited or not available and instructing the subscriber to place them on or near the customer premises equipment used in conjunction with the interconnected VoIP service.

Section 506 of RAY BAUM'S Act. Section 506 of RAY BAUM'S Act requires the Commission to “consider adopting rules to ensure that the dispatchable location is conveyed with a 9-1-1 call, regardless of the technological platform used.” Section 506, Pub. L. 115-127, 132 Stat. 326. In the Kari's Law and RAY BAUM'S Act Report and Order, the Commission implemented Section 506 of RAY BAUM'S Act by adopting dispatchable location rules for interconnected VoIP and other 911-capable services. For interconnected VoIP services, the Commission amended the 911 Registered Location and customer notification requirements applicable to interconnected VoIP service providers.

Specifically, the Commission in the Kari's Law and RAY BAUM'S Act Report and Order revised the Registered Location requirements at 47 CFR 9.11 to facilitate the provision of automated dispatchable location for fixed and non-fixed interconnected VoIP services. For fixed services, the rule requires provision of automated dispatchable location with each 911 call. For non-fixed services, the rule requires provision of automated dispatchable location with 911 calls if technically feasible. If providing automated dispatchable location is not technically feasible, non-fixed interconnected VoIP service providers may provide Registered Location or alternative location information for 911 calls as defined in the rules, or they may route the caller to a national emergency call center. For fixed services, compliance with these location requirements is required by January 6, 2021; for non-fixed services, compliance is required by January 6, 2022. Regarding customer notification requirements, the Commission afforded service providers flexibility to use any conspicuous means to notify end users of limitations in 911 service.

The requirements adopted in the Kari's Law and RAY BAUM'S Act Report and Order leverage technology advancements since the 2005 Report and Order, build upon the existing Registered Location requirements, and expand options for collecting and supplying end-user location information with 911 calls. Accordingly, they serve a vital public safety interest.

NET 911 Act. The New and Emerging Technologies 911 Improvement Act of 2008 (Pub. L. 110-283, 122 Stat. 2620) (NET 911 Act) explicitly imposes on each interconnected VoIP provider the obligation to provide 911 and E911 service in accordance with the Commission's existing requirements. In addition, the NET 911 Act directs the Commission to issue regulations by no later than October 21, 2008 that ensure that interconnected VoIP providers have access to any and all capabilities they need to satisfy that requirement.

In 2008, the Commission adopted Implementation of the NET 911 Improvement Act of 2008, Report and Order, FCC 08-249, released on October 21, 2008, in WC Docket No. 08-171 (2008 Report and Order), which implements certain key provisions of the NET 911 Act. The information collection requirements adopted in the 2008 Report and Order arise out of the requirement for an owner or controller of a capability that can be used for 911 or E911 service to make that capability available to a requesting interconnected VoIP provider under certain circumstances. In particular, an owner or controller of such capability must make it available to a requesting interconnected VoIP provider if that owner or controller either offers that capability to any commercial mobile radio service (CMRS) provider or if that capability is necessary to enable the interconnected VoIP provider to provide 911 or E911 service in compliance with the Commission's rules. These information collection requirements help to ensure continued cooperation between interconnected VoIP service providers and Public Safety Answering Points (PSAPs) in complying with the Commission's E911 requirements.

OMB Control Number: 3060-1280.

OMB Approval Date: November 10, 2020.

OMB Expiration Date: November 30, 2023.

Title: E911 Compliance for Fixed Telephony and Multi-line Telephone Systems.

Form Number: N/A.

Type of Review: New information collection.

Respondents: Business or other for-profit entities.

Number of Respondents and Responses: 1,275,636 respondents; 38,048,948 responses.

Estimated Time per Response: 0.016 hours (one minute).

Frequency of Response: One-time, on occasion, third party disclosure requirement, and recordkeeping requirement.

Obligation to Respond: Mandatory. Statutory authority for this information collection is contained in 47 U.S.C. 151-154, 152(a), 155(c), 157, 160, 201, 202, 208, 210, 214, 218, 219, 222, 225, 251(e), 255, 301, 302, 303, 307, 308, 309, 310, 316, 319, 332, 403, 405, 605, 610, 615, 615 note, 615a, 615b, 615c, 615a-1, 616, 620, 621, 623, 623 note, 721, and 1471.

Total Annual Burden: 634,610 hours.

Total Annual Cost: $1,911,540.

Privacy Act Impact Assessment: No impact(s).

Nature and Extent of Confidentiality: There is no need for confidentiality with this collection of information.

Needs and Uses: The Commission is obligated by statute to promote “safety of life and property” and to “encourage and facilitate the prompt deployment throughout the United States of a seamless, ubiquitous, and reliable end-to-end infrastructure” for public safety. Congress has established 911 as the national emergency number to enable all citizens to reach emergency services directly and efficiently, irrespective of whether a citizen uses wireline or wireless technology when calling for help by dialing 911. Efforts by federal, state and local government, along with the significant efforts of wireline and wireless service providers, have resulted in the nearly ubiquitous deployment of this life-saving service.

Section 506 of RAY BAUM'S Act requires the Commission to “consider adopting rules to ensure that the dispatchable location is conveyed with a 9-1-1 call, regardless of the technological platform used and including with calls from multi-line telephone system.” RAY BAUM'S Act also states that, “[i]n conducting the proceeding . . . the Commission may consider information and conclusions from other Commission proceedings regarding the accuracy of the dispatchable location for a 9-1-1 call . . . .” RAY BAUM'S Act defines a “9-1-1 call” as a voice call that is placed, or a message that is sent by other means of communication, to a Public Safety Answering Point (PSAP) for the purpose of requesting emergency services.

As part of implementing Section 506 of RAY BAUM'S Act, on August 1, 2019, the Commission adopted a Report and Order (2019 Order), set forth rules requiring Fixed Telephony providers and MLTS providers to ensure that dispatchable location is conveyed with 911 calls.

The Commission's 2019 Order adopted 9.8(a) and 9.16(b)(3)(i), (ii), and (iii) to facilitate the provision of automated dispatchable location. For Fixed Telephony and in fixed Multi-line Telephone Systems (MLTS) environments, providers must provide automated dispatchable location with 911 calls. For on-premises, non-fixed devices associated with an MLTS, the MLTS operator or manager must provide automated dispatchable location to the appropriate PSAP when technically feasible; otherwise they must provide either dispatchable location based on end-user manual update, or alternative location information. For off-premises MLTS calls to 911, the MLTS operator or manager must provide dispatchable location, if technically feasible. Otherwise it must provide either (1) manually-updated dispatchable location, or (2) enhanced location information, which may be coordinate-based, consisting of the best available location that can be obtained from any available technology or combination of technologies at reasonable cost. The requirements adopted in the 2019 Order account for variance in the feasibility of providing dispatchable location for non-fixed MLTS 911 calls, and the means available to provide it. The information collection requirements associated with these rules will ensure that Fixed Telephony and MLTS providers have the means to provide 911 callers' locations to PSAPs, thus reducing response times for emergency services.

List of Subjects in 47 CFR Part 9

Communications common carriers, Communications equipment, Radio.

Federal Communications Commission.
Marlene Dortch,
Secretary.

For the reasons discussed in the preamble, the Federal Communications Commission amends 47 CFR part 9 as follows:

PART 9—911 REQUIREMENTS

1. The authority citation for part 9 continues to read as follows:

Authority: 47 U.S.C. 151-154, 152(a), 155(c), 157, 160, 201, 202, 208, 210, 214, 218, 219, 222, 225, 251(e), 255, 301, 302, 303, 307, 308, 309, 310, 316, 319, 332, 403, 405, 605, 610, 615, 615 note, 615a, 615b, 615c, 615a-1, 616, 620, 621, 623, 623 note, 721, and 1471, unless otherwise noted.

§ 9.8 [Amended]

2. Amend § 9.8 by removing and reserving paragraph (b).

3. Amend § 9.10 by revising paragraph (s) to read as follows:

§ 9.10 911 Service.

* * * * *

(s) Compliance date(s). Paragraphs (i)(2)(ii)(C) and (D), (i)(2)(ii)(J)(4), (i)(4)(iv) and (v), (j)(4), and (k) of this section contain information-collection and recordkeeping requirements. Compliance with paragraphs (i)(2)(ii)(C) and (D), (i)(2)(ii)(J)(4), (i)(4)(iv) and (v), (j)(4), and (k) will not be required until after approval by the Office of Management and Budget. The Commission will publish a document in the Federal Register announcing compliance dates with those paragraphs and revising this paragraph (s) accordingly.

§ 9.11 [Amended]

4. Amend § 9.11 by removing paragraph (c).

§ 9.16 [Amended]

5. Amend § 9.16 by removing paragraph (c).

[FR Doc. 2020-25879 Filed 12-1-20; 11:15 am]

BILLING CODE 6712-01-P